ENVIRONMENTAL PROTECTION AGENCY

[EPA-HQ-OPP-2015-0452; FRL-9930-15]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before August 27, 2015.

ADDRESSES: Submit your comments, identified by docket identification (ID) number EPA-HQ-OPP-2015-0452, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Antimicrobials Division (7510P), Office of Pesticide Programs, Environmental Protection Agency, 1200 Pennsylvania Ave. NW., Washington, DC 20460-0001. ATTN: Donna Kamarei.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Donna Kamarei, Antimicrobials Division (7510P), Office of Pesticide Programs, Environmental Protection Agency, 1200 Pennsylvania Ave. NW., Washington, DC 20460-0001; telephone number: (703) 347-0443; email address: kamarei.donna@epa.gov.

SUPPLEMENTARY INFORMATION:

I. General Information

A. Does this action apply to me?

This action is directed to the public in general, and may be of interest to a wide range of stakeholders including environmental and human health advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 171 pesticide products registered under FIFRA section 3 (7 U.S.C. 136a). These registrations are listed in sequence by registration number in Table 1 of this unit.

Unless the Agency determines that there are substantive comments that warrant further review of the requests or the registrants withdraw their requests, EPA intends to issue an order in the Federal Register canceling all of the affected registrations.

Table 1—Registrations With Pending Requests for Cancellation
Registration codes | Product name | Chemical name
000499-00368 | WHITMIRE PT 2000 GREEN-SHIELD HORTICULTURAL ALGICIDE, DISINFECTANT | Alkyl * dimethyl benzyl ammonium chloride * (60%C14, 30%C16, 5%C18, 5%C12).
000499-00482 | TC 192 | 1-Decanaminium, N-decyl-N,N-dimethyl-, chloride.
000499-00542 | TC-287 | Alkyl * dimethyl benzyl ammonium chloride * (60%C14, 30%C16, 5%C18, 5%C12).
000875-00109 | QUAT-256 | Alkyl * dimethyl benzyl ammonium chloride * (60%C14, 30%C16, 5%C18, 5%C12), Alkyl * dimethyl ethylbenzyl ammonium chloride * (68%C12, 32%C14).
000875-00187 | D-TROL, DISINFECTANT, SANITIZER & ALGAECIDE | Alkyl * dimethyl benzyl ammonium chloride * (60%C14, 30%C16, 5%C18, 5%C12), Alkyl * dimethyl ethylbenzyl ammonium chloride * (68%C12, 32%C14).
001007-00098 | QUAT-A-MONE | Alkyl * dimethyl benzyl ammonium chloride * (60%C14, 30%C16, 5%C18, 5%C12), and Alkyl * dimethyl ethylbenzyl ammonium chloride * (68%C12, 32%C14).
001203-00041 | DELTA FOREMOST 3066 ES SHOW-OFF GERMICIDAL CONCENTRATE | Alkyl * dimethyl benzyl ammonium chloride * (60%C14, 30%C16, 5%C18, 5%C12), and Alkyl * dimethyl ethylbenzyl ammonium chloride * (68%C12, 32%C14).
001258-01269 | BAQUACIL PREMIUM ALGAECIDE | Poly(oxy-1,2-ethanediyl(dimethylimino)-1,2-ethanediyl(dimethylimino)-1,2-ethanediyl dichloride).
001258-01335 | VANTOCIL NR 3.8 | Alkyl * dimethyl benzyl ammonium chloride * (50%C14, 40%C12, 10%C16).
001270-00184 | ZEP LEMONEX GERMICIDAL DETERGENT | Alkyl * dimethyl benzyl ammonium chloride * (60%C14, 30%C16, 5%C18, 5%C12), and Alkyl * dimethyl ethylbenzyl ammonium chloride * (68%C12, 32%C14).
001270-00191 | ZEP VENTURE | Alkyl * dimethyl benzyl ammonium chloride * (60%C14, 30%C16, 5%C18, 5%C12), and Alkyl * dimethyl ethylbenzyl ammonium chloride * (68%C12, 32%C14).
001270-00235 | ZEP BOWL SHINE | Alkyl * dimethyl benzyl ammonium chloride * (60%C14, 30%C16, 5%C18, 5%C12), and Alkyl * dimethyl ethylbenzyl ammonium chloride * (68%C12, 32%C14).
001677-00232 | LONZA SQ SANITIZER/DISINFECTANT | Alkyl * dimethyl benzyl ammonium chloride * (50%C14, 40%C12, 10%C16).
001706-00177 | NALCON 7642 | Dialkyl * methyl benzyl ammonium chloride * (60% C14, 30% C16, 5% C18, 5% C12), and Alkyl * dimethyl benzyl ammonium chloride * (60%C14, 30%C16, 5%C18, 5%C12).
001839-00101 | CD 1.6 (D & F) DETERGENT/DISINFECTANT | Alkyl * dimethyl benzyl ammonium chloride * (60%C14, 30%C16, 5%C18, 5%C12), and Alkyl * dimethyl ethylbenzyl ammonium chloride * (68%C12, 32%C14).
001839-00103 | CD 3.2 (D & F) DETERGENT/DISINFECTANT | Alkyl * dimethyl benzyl ammonium chloride * (60%C14, 30%C16, 5%C18, 5%C12), Alkyl * dimethyl ethylbenzyl ammonium chloride * (68%C12, 32%C14).
001839-00146 | NP 1.8 D&F DETERGENT/DISINFECTANT | Alkyl * dimethyl benzyl ammonium chloride * (50%C14, 40%C12, 10%C16).
001839-00160 | BTC 885 THICKENED PHOSPHORIC ACID GERMICIDAL BOWL CLEANER. | Alkyl * dimethyl benzyl ammonium chloride * (50%C14, 40%C12, 10%C16).
002212-00016 | ELIMSTAPH NO. 2 | Alkyl * dimethyl benzyl ammonium chloride * (50%C14, 40%C12, 10%C16).
002296-00097 | BACTI-CHEM GENERAL TYPE DETERGENT CLEANER-DISINFECTANT | Alkyl * dimethyl benzyl ammonium chloride * (60%C14, 30%C16, 5%C18, 5%C12).
002296-00107 | LEMON-QUAT DISINFECTANT CLEANER | Alkyl * dimethyl benzyl ammonium chloride * (58%C14, 28%C16, 14%C12).
002296-00108 | PINE QUAT | Alkyl * dimethyl benzyl ammonium chloride * (58%C14, 28%C16, 14%C12).
002296-00109 | CHERRY-QUAT | Alkyl * dimethyl benzyl ammonium chloride * (58%C14, 28%C16, 14%C12).
002724-00517 | SPEER GERMICIDAL MULTI-PURPOSE CLEANER | Alkyl * dimethyl ethylbenzyl ammonium chloride * (68%C12, 32%C14), Alkyl * dimethyl benzyl ammonium chloride * (60%C14, 30%C16, 5%C18, 5%C12).
002724-00518 | MAGIC GUARD DISINFECTANT/SANITIZER/DEODORIZER | Alkyl * dimethyl ethylbenzyl ammonium chloride * (68%C12, 32%C14), Alkyl * dimethyl benzyl ammonium chloride * (60%C14, 30%C16, 5%C18, 5%C12).
002724-00519 | MAGIC GUARD CLEANER/DISINFECTANT | Alkyl * dimethyl benzyl ammonium chloride * (60%C14, 30%C16, 5%C18, 5%C12), and Alkyl * dimethyl ethylbenzyl ammonium chloride * (68%C12, 32%C14).
002724-00562 | MAGIC GUARD LEMON ODOR DISINFECTANT-DEODORANT-CLEANER | Alkyl * dimethyl benzyl ammonium chloride * (58%C14, 28%C16, 14%C12).
002935-00548 | HYAMINE DISINFECTANT | Alkyl * dimethyl benzyl ammonium chloride * (50%C14, 40%C12, 10%C16).
003635-00278 | X-CELL 420 | Alkyl * dimethyl benzyl ammonium chloride * (60%C14, 30%C16, 5%C18, 5%C12), and Dialkyl * methyl benzyl ammonium chloride * (60%C14, 30%C16, 5%C18, 5%C12).
003862-00075 | MINT 7 | Alkyl * dimethyl benzyl ammonium chloride * (58%C14, 28%C16, 14%C12).
003862-00185 | SPUR-TEX DISINFECTANT CLEANER-DEODORANT | Alkyl * dimethyl benzyl ammonium chloride * (60%C14, 30%C16, 5%C18, 5%C12).
004822-00370 | S.C. JOHNSON WAX TOILET DUCK | Alkyl * dimethyl benzyl ammonium chloride * (60%C14, 30%C16, 5%C18, 5%C12), and Alkyl * dimethyl ethylbenzyl ammonium chloride * (68%C12, 32%C14).
004822-00484 | BD1 | Alkyl * dimethyl benzyl ammonium chloride * (60%C14, 30%C16, 5%C18, 5%C12), and Alkyl * dimethyl ethylbenzyl ammonium chloride * (68%C12, 32%C14).
004822-00546 | DEXTER 1 | Alkyl * dimethyl benzyl ammonium chloride * (60%C14, 30%C16, 5%C18, 5%C12), and Alkyl * dimethyl ethylbenzyl ammonium chloride * (68%C12, 32%C14).
004822-00577 | RUT DISINFECTANT CLEANER | Alkyl * dimethyl benzyl ammonium chloride * (60%C14, 30%C16, 5%C18, 5%C12), and Alkyl * dimethyl ethylbenzyl ammonium chloride * (68%C12, 32%C14).
005813-00031 | PINE SOL HOUSEHOLD CLEANER DISINFECTANT | 1-Octanaminium, N,N-dimethyl-N-octyl-, chloride.
005813-00034 | PINE-SOL MULTIPURPOSE CLEANER DISINFECTANT | 1-Octanaminium, N,N-dimethyl-N-octyl-, chloride.
005813-00035 | PINE-SOL PRESTO | 1-Octanaminium, N,N-dimethyl-N-octyl-, chloride.
005813-00059 | CLOROX DISINFECTING SPRAY III | Alkyl * dimethyl benzyl ammonium chloride * (60%C14, 30%C16, 5%C18, 5%C12), and Alkyl * dimethyl ethylbenzyl ammonium chloride * (68%C12, 32%C14).
005813-00067 | CLOROX 409-R | 1-Octanaminium, N,N-dimethyl-N-octyl-, chloride, Alkyl * dimethyl benzyl ammonium chloride * (50%C14, 40%C12, 10%C16).
005813-00074 | CLOROX TLC | 1-Octanaminium, N,N-dimethyl-N-octyl-, chloride, Alkyl * dimethyl benzyl ammonium chloride * (50%C14, 40%C12, 10%C16).
005813-00088 | JULIA | Alkyl * dimethyl benzyl ammonium chloride * (60%C14, 30%C16, 5%C18, 5%C12), and Alkyl * dimethyl ethylbenzyl ammonium chloride * (68%C12, 32%C14).
005813-00097 | BRAC | 1-Octanaminium, N,N-dimethyl-N-octyl-, chloride, and Alkyl * dimethyl benzyl ammonium chloride * (50%C14, 40%C12, 10%C16).
006836-00001 | BARQUAT LB-50 | Alkyl * dimethyl benzyl ammonium chloride * (65%C12, 25%C14, 10%C16).
006836-00011 | BARQUAT OJ-50 | Alkyl * dimethyl benzyl ammonium chloride * (60%C14, 25%C12, 15%C16).
006836-00031 | LONZA SANITIZER-CLEANER 45-7 | Alkyl * dimethyl benzyl ammonium chloride * (60%C14, 30%C16, 5%C18, 5%C12).
006836-00033 | LONZA FORMULATION 70-12 | Alkyl * dimethyl benzyl ammonium chloride * (50%C14, 40%C12, 10%C16).
006836-00035 | BARQUAT MX-80 | Alkyl * dimethyl benzyl ammonium chloride * (60%C14, 30%C16, 5%C18, 5%C12).
006836-00036 | BARQUAT MX-50 | Alkyl * dimethyl benzyl ammonium chloride * (60%C14, 30%C16, 5%C18, 5%C12).
006836-00047 | BARQUAT OJ-10 SWIMMING POOL ALGAECIDE | Alkyl * dimethyl benzyl ammonium chloride * (60%C14, 25%C12, 15%C16).
006836-00055 | BARQUAT MB 80-10 | Alkyl * dimethyl benzyl ammonium chloride * (50%C14, 40%C12, 10%C16).
006836-00056 | BARQUAT 42-10 | Alkyl * dimethyl ethylbenzyl ammonium chloride * (50%C12, 30%C14, 17%C16, 3%C18), and Alkyl * dimethyl benzyl ammonium chloride * (60%C14, 30%C16, 5%C18, 5%C12).
006836-00069 | LONZA BARQUAT MX 80-10 | Alkyl * dimethyl benzyl ammonium chloride * (60%C14, 30%C16, 5%C18, 5%C12).
006836-00076 | LONZA FORMULATION S-23 | Alkyl * dimethyl benzyl ammonium chloride * (50%C14, 40%C12, 10%C16).
006836-00079 | 205M WATER TREATMENT MICROBIOCIDE | Alkyl * dimethyl benzyl ammonium chloride * (50%C14, 40%C12, 10%C16).
006836-00080 | BARDAC 203-MP | Alkyl * dimethyl benzyl ammonium chloride * (50%C14, 40%C12, 10%C16).
006836-00082 | BARQUAT OJ-80 | Alkyl * dimethyl benzyl ammonium chloride * (60%C14, 25%C12, 15%C16).
006836-00096 | HYAMINE 10-X (CRYSTALS) | Benzenemethanaminium, N,N-dimethyl-N-(2-(2-(methyl-4-(1,1,3,3-tetramethylbutyl)phenoxy)ethoxy)ethyl)-, chloride.
006836-00097 | BENZETHONIUM CHLORIDE USP GERMICIDE CONCENTRATE | Benzenemethanaminium, N,N-dimethyl-N-(2-(2-(4-(1,1,3,3-tetramethylbutyl)phenoxy)ethoxy)ethyl)-, chloride.
006836-00106 | HYAMINE 3500 W/E-80% | Alkyl * dimethyl benzyl ammonium chloride * (50%C14, 40%C12, 10%C16).
006836-00155 | BIO-QUAT 50-24 | Alkyl * dimethyl benzyl ammonium chloride * (61%C12, 23%C14, 11%C16, 2.5%C18 2.5%C10 and trace of C8).
006836-00160 | BIO QUAT 50-35 | Alkyl * dimethyl benzyl ammonium chloride * (60%C14, 30%C16, 5%C18, 5%C12), and Alkyl * dimethyl ethylbenzyl ammonium chloride * (50%C12, 30%C14, 17%C16, 3%C18).
006836-00161 | BIO-QUAT 80-24 FOR MANUFACTURING USE ONLY | Alkyl * dimethyl benzyl ammonium chloride * (61%C12, 23%C14, 11%C16, 2.5%C18 2.5%C10 and trace of C8).
006836-00166 | BIO-GUARD M-15 DISINFECTANT | Alkyl * dimethyl benzyl ammonium chloride * (58%C14, 28%C16, 14%C12).
006836-00170 | BIO QUAT T-501 | Alkyl * dimethyl benzyl ammonium chloride * (50%C14, 40%C12, 10%C16).
006836-00171 | BIO-QUAT 80-28R | Alkyl * dimethyl benzyl ammonium chloride * (60%C14, 30%C16, 5%C18, 5%C12), and Alkyl * dimethyl ethylbenzyl ammonium chloride * (68%C12, 32%C14).
006836-00172 | BIO-QUAT 50-36 | Alkyl * dimethyl benzyl ammonium chloride * (50%C14, 40%C12, 10%C16).
006836-00173 | BIO QUAT 50-28R | Alkyl * dimethyl benzyl ammonium chloride * (60%C14, 30%C16, 5%C18, 5%C12), and Alkyl * dimethyl ethylbenzyl ammonium chloride * (68%C12, 32%C14).
006836-00174 | BIO QUAT 80-36 | Alkyl * dimethyl benzyl ammonium chloride * (60%C14, 30%C16, 5%C18, 5%C12), and Alkyl * dimethyl ethylbenzyl ammonium chloride * (50%C12, 30%C14, 17%C16, 3%C18).
006836-00175 | BIO-QUAT 80-35 | Alkyl * dimethyl benzyl ammonium chloride * (60%C14, 25%C12, 15%C16).
006836-00183 | BIO-QUAT 50-60, DISINFECTANT, FUNGICIDE, ALGAECIDE | Alkyl * dimethyl benzyl ammonium chloride * (50%C14, 40%C12, 10%C16).
006836-00186 | BARQUAT 80-28RX | Alkyl * dimethyl benzyl ammonium chloride * (60%C14, 30%C16, 5%C18, 5%C12).
006836-00187 | BIO QUAT 80-42 | Alkyl * dimethyl benzyl ammonium chloride * (60%C14, 30%C16, 5%C18, 5%C12).
006836-00188 | BIO QUAT 50-42 | Alkyl * dimethyl benzyl ammonium chloride * (60%C14, 30%C16, 5%C18, 5%C12).
006836-00189 | BIO QUAT 50-30 | Alkyl * dimethyl benzyl ammonium chloride * (50%C12, 30%C14, 17%C16, 3%C18).
006836-00190 | BIO QUAT 50-25 | Alkyl * dimethyl benzyl ammonium chloride * (67%C12, 25%C14, 7%C16, 1%C8, C10, and C18).
006836-00191 | BARQUAT 50-65 | Decyl isononyl dimethyl ammonium chloride.
006836-00209 | BARDAC 2180 | Decyl isononyl dimethyl ammonium chloride.
006836-00218 | BARDAC RW-10 | Decyl isononyl dimethyl ammonium chloride.
006836-00219 | BARDAC CW-10 | Decyl isononyl dimethyl ammonium chloride.
006836-00220 | BARDAC CW-50 | Decyl isononyl dimethyl ammonium chloride.
006836-00221 | BARDAC RW-50 | Alkyl * dimethyl benzyl ammonium chloride * (50%C14, 40%C12, 10%C16).
006836-00227 | LONZA FORMULATION DC-800 | Decyl isononyl dimethyl ammonium chloride.
006836-00228 | BARDAC 2150 LA | Alkyl * dimethyl benzyl ammonium chloride * (50%C14, 40%C12, 10%C16).
006836-00230 | JORDAQUAT 350 | Alkyl * dimethyl benzyl ammonium chloride * (60%C14, 30%C16, 5%C18, 5%C12).
006836-00244 | CSP-46 CONCENTRATE | Alkyl * dimethyl benzyl ammonium chloride * (67%C12, 25%C14, 7%C16, 1%C18).
006836-00285 | BARQUAT 50-65A | Alkyl * dimethyl benzyl ammonium chloride * (50%C14, 40%C12, 10%C16).
006836-00294 | BARDAC 255M | Alkyl * dimethyl benzyl ammonium chloride * (50%C14, 40%C12, 10%C16).
006836-00295 | BARDAC 288M | Alkyl * dimethyl benzyl ammonium chloride * (50%C14, 40%C12, 10%C16).
006836-00298 | BARQUAT MB-40 SWIMMING POOL ALGAECIDE | Alkyl * dimethyl benzyl ammonium chloride * (50%C14, 40%C12, 10%C16).
006836-00301 | LONZA FORMULATION FC-600 | Alkyl * dimethyl benzyl ammonium chloride * (50%C14, 40%C12, 10%C16).
006836-00320 | LONZA CQ DISINFECTANT CLEANER | Alkyl * dimethyl benzyl ammonium chloride * (60%C14, 30%C16, 5%C18, 5%C12), and Alkyl * dimethyl ethylbenzyl ammonium chloride * (50%C12, 30%C14, 17%C16, 3%C18).
006943-00001 | KORK RUB CLEANER DISINFECTANT | Alkyl * dimethyl benzyl ammonium chloride * (60%C14, 25%C12, 15%C16).
007364-00090 | POOL-PAL 500 ALGAECIDE | Alkyl * dimethyl benzyl ammonium chloride * (50%C14, 40%C12, 10%C16).
008540-00003 | FORMULA NO. 30-A | 1-Decanaminium, N-decyl-N,N-dimethyl-, chloride.
008540-00013 | GARRATT CALLAHAN FORMULA 35 | Benzenemethanaminium, N,N-dimethyl-N-(2-(2-(4-(1,1,3,3-tetramethylbutyl)phenoxy)ethoxy)ethyl)-, chloride.
008660-00061 | VERTAGREEN ALGAECIDE | Alkyl * dimethyl benzyl ammonium chloride * (67%C12, 25%C14, 7%C16, 1%C18), and Dialkyl * methyl benzyl ammonium chloride * (60%C14, 30%C16, 5%C18, 5%C12), and Alkyl * dimethyl benzyl ammonium chloride * (50%C14, 40%C12, 10%C16).
008959-00036 | PORTATRINE | Alkyl * dimethyl benzyl ammonium chloride * (58%C14, 28%C16, 14%C12).
009367-00005 | EMULSO GERMICIDAL BOWL CLEANER | Alkyl * dimethyl benzyl ammonium chloride * (50%C14, 40%C12, 10%C16).
009367-00045 | MINT-O | Alkyl * dimethyl benzyl ammonium chloride * (50%C14, 40%C12, 10%C16).
009386-00014 | AMA-3510 | Alkyl * dimethyl benzyl ammonium chloride * (60%C14, 30%C16, 5%C18, 5%C12), and Alkyl * dimethyl ethylbenzyl ammonium chloride * (50%C12, 30%C14, 17%C16, 3%C18).
009688-00056 | DEODORIZING DISINFECTING CLEANER I | Alkyl * dimethyl benzyl ammonium chloride * (60%C14, 30%C16, 5%C18, 5%C12), and Alkyl * dimethyl ethylbenzyl ammonium chloride * (50%C12, 30%C14, 17%C16, 3%C18).
009688-00057 | CHEMSICO SPRAY DISINFECTANT I WITH BACTERIOSTATIC ACTION | Alkyl * dimethyl benzyl ammonium chloride * (60%C14, 30%C16, 5%C18, 5%C12), and Alkyl * dimethyl ethylbenzyl ammonium chloride * (68%C12, 32%C14).
009688-00135 | CHEMSICO SURFACE DISINFECTANT | Alkyl * dimethyl benzyl ammonium chloride * (61%C12, 23%C14, 11%C16, 5%C18).
010324-00002 | MAQUAT LC12S-80% | Alkyl * dimethyl benzyl ammonium chloride * (95%C14, 3%C12, 2%C16).
010324-00121 | MAQUAT 2855 | Alkyl * dimethyl benzyl ammonium chloride * (95%C14, 3%C12, 2%C16).
010324-00135 | MAQUAT MC1412-55% | Alkyl * dimethyl benzyl ammonium chloride * (65%C12, 25%C14, 10%C16).
010707-00008 | MAGNACIDE 408 INDUSTRIAL BACTERICIDE | Alkyl * dimethyl benzyl ammonium chloride * (60%C14, 30%C16, 5%C18, 5%C12), and Alkyl * dimethyl ethylbenzyl ammonium chloride * (68%C12, 32%C14).
012204-00010 | MARCICIDE | Alkyl * dimethyl benzyl ammonium chloride * (58%C14, 28%C16, 14%C12).
037265-00042 | PINE ODOR DISINFECTANT | Alkyl * dimethyl benzyl ammonium chloride * (58%C14, 28%C16, 14%C12).
037265-00049 | STRIKE BAC LEMON ODOR DISINFECTANT | Alkyl * dimethyl benzyl ammonium chloride * (50%C14, 40%C12, 10%C16).
045309-00017 | AQUACLEAR ALGAECIDE FORMULA-5 | Alkyl * dimethyl benzyl ammonium chloride * (60%C14, 25%C12, 15%C16).
045309-00032 | FREE 'N CLEAR SWIMMING POOL ALGAECIDE | Alkyl * dimethyl benzyl ammonium chloride * (60%C14, 30%C16, 5%C18, 5%C12), and Dialkyl * methyl benzyl ammonium chloride * (60%C14, 30%C16, 5%C18, 5%C12).
045309-00033 | FREE N' CLEAR 10 SWIMMING POOL ALGAECIDE | 1-Decanaminium, N-decyl-N,N-dimethyl-, chloride.
045309-00044 | SWIM FREE CONCENTRATED POLY-CIDE II ALGAECIDE FOR SWIMMING POOLS | Alkyl * dimethyl benzyl ammonium chloride * (60%C14, 25%C12, 15%C16).
047000-00087 | SUPERSWEET MULTI-PURPOSE DISINFECTANT | Alkyl * dimethyl ethylbenzyl ammonium chloride * (50%C12, 30%C14, 17%C16, 3%C18), and Alkyl * dimethyl benzyl ammonium chloride * (60%C14, 30%C16, 5%C18, 5%C12).
047371-00001 | FORMULATION HS-32Q | Alkyl * dimethyl benzyl ammonium chloride * (50%C14, 40%C12, 10%C16).
047371-00006 | FORMULATION HS-652Q | Alkyl * dimethyl benzyl ammonium chloride * (50%C14, 40%C12, 10%C16).
047371-00010 | FMB 451-8 CONCENTRATED GERMICIDE | Alkyl * dimethyl benzyl ammonium chloride * (50%C14, 40%C12, 10%C16).
047371-00011 | FMB 451-5 QUAT CONCENTRATED GERMICIDE | Alkyl * dimethyl benzyl ammonium chloride * (60%C14, 30%C16, 5%C18, 5%C12), and Alkyl * dimethyl ethylbenzyl ammonium chloride * (50%C12, 30%C14, 17%C16, 3%C18).
047371-00013 | FMB 6075-8 QUAT CONCENTRATED GERMICIDE | Alkyl * dimethyl benzyl ammonium chloride * (60%C14, 30%C16, 5%C18, 5%C12), and Alkyl * dimethyl ethylbenzyl ammonium chloride * (68%C12, 32%C14).
047371-00014 | FMB 3328-8 QUAT | Alkyl * dimethyl benzyl ammonium chloride * (60%C14, 30%C16, 5%C18, 5%C12), and Alkyl * dimethyl ethylbenzyl ammonium chloride * (50%C12, 30%C14, 17%C16, 3%C18).
047371-00015 | FMB 6075-5 QUAT CONCENTRATED GERMICIDE | Alkyl * dimethyl benzyl ammonium chloride * (60%C14, 30%C16, 5%C18, 5%C12).
047371-00016 | FMB 4500-5 QUAT CONCENTRATED GERMICIDE | Alkyl * dimethyl benzyl ammonium chloride * (50%C14, 40%C12, 10%C16).
047371-00018 | FMB 451-28 QUAT CONCENTRATED GERMICIDE | Alkyl * dimethyl ethylbenzyl ammonium chloride * (68%C12, 32%C14), and Alkyl * dimethyl benzyl ammonium chloride * (60%C14, 30%C16, 5%C18, 5%C12).
047371-00019 | FMB 3328-5 QUAT CONCENTRATED GERMICIDE | Alkyl * dimethyl benzyl ammonium chloride * (60%C14, 30%C16, 5%C18, 5%C12), and Alkyl * dimethyl ethylbenzyl ammonium chloride * (68%C12, 32%C14).
047371-00020 | FMB 3328-28 QUAT CONCENTRATED GERMICIDE | Alkyl * dimethyl benzyl ammonium chloride * (60%C14, 30%C16, 5%C18, 5%C12).
047371-00022 | FMB 4500-28 QUAT | Alkyl * dimethyl benzyl ammonium chloride * (50%C14, 40%C12, 10%C16).
047371-00032 | FORMULATION HS-8451P | Alkyl * dimethyl benzyl ammonium chloride * (60%C14, 30%C16, 5%C18, 5%C12), and Alkyl * dimethyl ethylbenzyl ammonium chloride * (68%C12, 32%C14).
047371-00035 | FORMULATION HS-33A | Alkyl * dimethyl benzyl ammonium chloride * (50%C14, 40%C12, 10%C16).
047371-00046 | SAK-64L CLEANER | Alkyl * dimethyl benzyl ammonium chloride * (60%C14, 25%C12, 15%C16).
047371-00050 | HUNTINGTON FMB 65-15 QUAT | Alkyl * dimethyl benzyl ammonium chloride * (60%C14, 25%C12, 15%C16).
047371-00051 | LONZA FMB-28 QUAT | Alkyl * dimethyl benzyl ammonium chloride * (50%C14, 40%C12, 10%C16).
047371-00055 | WTM-1210 WATER TREATMENT MICROBIOCIDE | Alkyl * dimethyl benzyl ammonium chloride * (50%C14, 40%C12, 10%C16).
047371-00061 | FMB 1210-100 QUAT CONCENTRATED GERMICIDE | Alkyl * dimethyl benzyl ammonium chloride * (58%C14, 28%C16, 14%C12).
047371-00062 | FMB 28-28 QUAT | Alkyl * dimethyl benzyl ammonium chloride * (60%C14, 30%C16, 5%C18, 5%C12), and Alkyl * dimethyl ethylbenzyl ammonium chloride * (68%C12, 32%C14).
047371-00063 | FMB 3328-D40 QUAT CONCENTRATED GERMICIDE | Alkyl * dimethyl benzyl ammonium chloride * (60%C14, 25%C12, 15%C16).
047371-00069 | HS-65 SWIMMING POOL ALGAECIDE | Alkyl * dimethyl benzyl ammonium chloride * (50%C14, 40%C12, 10%C16).
047371-00070 | HUNTINGTON FMB 504-5 QUAT | Alkyl * dimethyl benzyl ammonium chloride * (50%C14, 40%C12, 10%C16).
047371-00073 | FMB 504-8 QUAT | Alkyl * dimethyl benzyl ammonium chloride * (58%C14, 28%C16, 14%C12).
047371-00085 | FMB 28-15 QUAT CONCENTRATED GERMICIDE | Alkyl * dimethyl ethylbenzyl ammonium chloride * (50%C12, 30%C14, 17%C16, 3%C18), and Alkyl * dimethyl benzyl ammonium chloride * (60%C14, 30%C16, 5%C18, 5%C12).
047371-00089 | FORMULATION AE-90 | Alkyl * dimethyl benzyl ammonium chloride * (60%C14, 25%C12, 15%C16).
047371-00092 | HS-65 WINTERIZING ALGICIDE | Alkyl * dimethyl benzyl ammonium chloride * (50%C14, 40%C12, 10%C16).
047371-00101 | FORMULATION PA-1210 | Alkyl * dimethyl benzyl ammonium chloride * (50%C14, 40%C12, 10%C16).
047371-00102 | FORMULATION POQ 1210 | Alkyl * dimethyl ethylbenzyl ammonium chloride * (50%C12, 30%C14, 17%C16, 3%C18), and Alkyl * dimethyl benzyl ammonium chloride * (60%C14, 30%C16, 5%C18, 5%C12).
047371-00104 | FORMULATION HS-3328 | Alkyl * dimethyl benzyl ammonium chloride * (50%C14, 40%C12, 10%C16).
047371-00105 | FORMULATION POQ-451 | Alkyl * dimethyl benzyl ammonium chloride * (60%C14, 25%C12, 15%C16).
047371-00107 | FORMULATION HS-65 SWIMMING POOL ALGAECIDE | Alkyl * dimethyl benzyl ammonium chloride * (50%C14, 40%C12, 10%C16).
047371-00149 | PA-1210 HUMIDIFIER ALGAECIDE | Alkyl * dimethyl benzyl ammonium chloride * (50%C14, 40%C12, 10%C16).
047371-00153 | FORMULATION POQ451 (1:32) | Alkyl * dimethyl benzyl ammonium chloride * (50%C14, 40%C12, 10%C16).
047371-00161 | HS-451 DISINFECTANT/SANITIZER (50%) | Alkyl * dimethyl benzyl ammonium chloride * (50%C14, 40%C12, 10%C16).
047371-00181 | WTM-1210 MICROBICIDE (33%) | Alkyl * dimethyl benzyl ammonium chloride * (60%C14, 30%C16, 5%C18, 5%C12), and Alkyl * dimethyl ethylbenzyl ammonium chloride * (68%C12, 32%C14).
048181-00001 | HYDROCIDE GERMICIDE AND DISINFECTANT | Alkyl * dimethyl benzyl ammonium chloride * (50%C14, 40%C12, 10%C16).
061282-00060 | TRYAD | Alkyl * dimethyl benzyl ammonium chloride * (50%C14, 40%C12, 10%C16).
063664-00001 | QSP-451 SWIMMING POOL ALGAECIDE | Alkyl * dimethyl benzyl ammonium chloride * (60%C14, 25%C12, 15%C16).
067262-00015 | AQUA CHEM BALANCED FOR CLEAN POOLS ALGAECIDE LIQUID | Alkyl * dimethyl ethylbenzyl ammonium chloride * (68%C12, 32%C14), and Alkyl * dimethyl benzyl ammonium chloride * (60%C14, 30%C16, 5%C18, 5%C12).
067517-00017 | QUATERNARY DISINFECTANT | Alkyl * dimethyl benzyl ammonium chloride * (60%C14, 30%C16, 5%C18, 5%C12), and Alkyl * dimethyl ethylbenzyl ammonium chloride * (68%C12, 32%C14).
067517-00019 | ODOR CONTROL | Alkyl * dimethyl benzyl ammonium chloride * (50%C14, 40%C12, 10%C16).
067517-00039 | ANNIHILATOR CLEANER/DISINFECTANT | 1-Decanaminium, N,N-dimethyl-N-octyl-, chloride, and Alkyl * dimethyl benzyl ammonium chloride * (50%C14, 40%C12, 10%C16).
067619-00003 | CPPC SPRAY 1 | Alkyl * dimethyl benzyl ammonium chloride * (60%C14, 30%C16, 5%C18, 5%C12), and Alkyl * dimethyl ethylbenzyl ammonium chloride * (68%C12, 32%C14).
067619-00005 | CPPC PS SPRAY 19054 | 1-Decanaminium, N,N-dimethyl-N-octyl-, chloride, and Alkyl * dimethyl benzyl ammonium chloride * (50%C14, 40%C12, 10%C16).
067619-00022 | LEX | Alkyl * dimethyl benzyl ammonium chloride * (60%C14, 30%C16, 5%C18, 5%C12), and Alkyl * dimethyl ethylbenzyl ammonium chloride * (68%C12, 32%C14).
070627-00001 | SPRAY DISINFECTANT HG | Alkyl * dimethyl benzyl ammonium chloride * (60%C14, 30%C16, 5%C18, 5%C12), and Alkyl * dimethyl ethylbenzyl ammonium chloride * (68%C12, 32%C14).
070627-00059 | ANTIBACTERIAL SCRUBBING BUBBLES BATHROOM CLEANER | Alkyl * dimethyl benzyl ammonium chloride * (50%C14, 40%C12, 10%C16).
070627-00064 | BUTCHER'S BRIGHT DISINFECTANT FOAM CLEANER | Alkyl * dimethyl benzyl ammonium chloride * (60%C14, 30%C16, 5%C18, 5%C12), and Alkyl * dimethyl ethylbenzyl ammonium chloride * (68%C12, 32%C14).
070627-00065 | BUTCHER'S CLOCKWORK DISINFECTANT DEODORIZER SANITIZER | Alkyl * dimethyl benzyl ammonium chloride * (50%C14, 40%C12, 10%C16).
070627-00066 | BUTCHER'S BATH GUARD ACID FREE DISINFECTANT BATHROOM CLEANER | Alkyl * dimethyl benzyl ammonium chloride * (50%C14, 40%C12, 10%C16).
074655-00003 | SPECTRUM RX-36 | Alkyl * dimethyl benzyl ammonium chloride * (50%C14, 40%C12, 10%C16).
074655-00015 | SPECTRUM RX1000 | Alkyl * dimethyl benzyl ammonium chloride * (60%C14, 30%C16, 5%C18, 5%C12).
081002-00001 | CHLORINE FREE SPLASHES ALGICIDE | Alkyl * dimethyl benzyl ammonium chloride * (60%C14, 30%C16, 5%C18, 5%C12), and Alkyl * dimethyl ethylbenzyl ammonium chloride * (68%C12, 32%C14).
090924-00008 | BACTRON K-86 MICROBIOCIDE | Alkyl * dimethyl benzyl ammonium chloride * (60%C14, 30%C16, 5%C18, 5%C12), and Alkyl * dimethyl ethylbenzyl ammonium chloride * (68%C12, 32%C14).

Table 2 of this unit includes the names and addresses of record for all registrants of the products in Table 1 of this unit, in sequence by EPA company number. This number corresponds to the first part of the EPA registration numbers of the products listed in this unit.

Table 2—Registrants Requesting Voluntary Cancellation
EPA Company number | Company name and address
499 | BASF Corporation, 26 Davis Drive, Research Triangle Park, NC 27709.
875 | Diversey, Inc., 8310 16th Street, Sturtevant, WI 53177.
1007 | Zoetis, Inc., 333 Portage Street, Kalamazoo, MI 49007-4931.
1203 | Delta Foremost Chemical Corp., 3915 Air Park Street, Memphis, TN 38118.
1258 | Arch Chemicals, Inc., 1200 Bluegrass Lakes Parkway, Alpharetta, GA 30004.
1270 | Zep, Inc., 1259 Seaboard Industrial Blvd. NW., Atlanta, GA 30318.
1677 | Ecolab, Inc., 370 Wabasha Street North, St. Paul, MN 55102.
1706 | Nalco Company, 370 N. Wabasha Street, St. Paul, MN 55102-1390.
1839 | Stepan Company, 22 W. Frontage Rd., Northfield Rd., IL 60093.
2212 | Walter G. Legge Company, Inc., 444 Central Avenue, Peekskill, NY 10566.
2296 | National Chemical Laboratories, Inc., 401 N. 10th Street, Philadelphia, PA 19123.
2724 | Wellmark International, 1501 E. Woodfield Road, Suite 200 West, Schaumburg, IL 60173.
2935 | Wilbur-Ellis Company, 2903 S. Cedar Avenue, Fresno, CA 93725.
3635 | Dubois Chemicals, Inc., 3630 E. Kemper Road, Cincinnati, OH 45241.
3862 | ABC Compounding Co., Inc., P.O. Box 16247, Atlanta, GA 30321-0247.
4822 | S.C. Johnson & Son, Inc., 1525 Howe Street, Racine, WI 53403.
5813 | The Clorox Co., C/O PS&RC, P.O. Box 493, Pleasanton, CA 94566-0803.
6836 | Lonza, Inc., 90 Boroline Road, Allendale, NJ 07401.
6943 | Tate Soaps & Surfactants, Inc., P.O. Box 2543, Kokomo, IN 46904-2543.
7364 | GLB Pool & Spa, 90 Boroline Road, Allendale, NJ 07401.
8540 | Garratt-Callahan Co., 50-Ingold Road, Burlingame, CA 94010.
8660 | United Industries Corp., P.O. Box 142642, St. Louis, MO 63114-0642.
8959 | Applied Biochemists, 90 Boroline Road, Allendale, NJ 07401.
9367 | Theo Chem Laboratories, Inc., 7373 Rowlett Park Drive, Tampa, FL 33610-1141.
9386 | Kemira Chemicals, Inc., 1000 Parkwood Circle, Suite 500, Atlanta, GA 30339.
9688 | Chemsico, One Rider Trail Plaza Drive, Suite 300, Earth City, MO 63045, Lithia Springs, GA 30122.
10324 | Mason Chemical Company, 723 W. Algonquin Rd., Suite B, Arlington Heights, IL 60005.
10707 | Baker Petrolite, LLC., 12645 West Airport Blvd., Sugar Land, TX 77478.
12204 | Mid-American Research Chemical Corp., P.O. Box 927, Columbus, NE 68602-0927.
37265 | Genlabs, 5568 Schaefer Avenue, Chino, CA 91710.
45309 | Aqua Clear Industries, LLC., P.O. Box 2456, Suwanee, GA 30024-0980.
47000 | Chem-tech, LTD., 4515 Fleur Drive #303, Des Moines, IA 50321.
47371 | H & S Chemicals Division, 90 Boroline Road, Allendale, NJ 07401.
48181 | Hydrox Laboratories, 825 Tollgate Rd., Elgin, IL 60123.
63664 | Quality Swimming Pool Products Division, 90 Boroline Road, Allendale, NJ 07401.
67262 | Recreational Water Products, Inc., P.O. Box 1449, Buford, GA 30515-1449.
67517 | PM Resources, Inc., 3200 Meacham Boulevard, Fort Worth, TX 76137.
67619 | Clorox Professional Products Co. C/O PS&RC, P.O. Box 493, Pleasanton, CA 94566-0803.
70627 | Diversey, Inc., 8310 16th Street, Sturtevant, WI 53177.
74655 | Solenis, LLC., 7910 Baymeadows Way, Suite 100, Jacksonville, FL 32256.
81002 | Splashes, Inc., 90 Boroline Road, Allendale, NJ 07401.
90924 | Nalco Champion, 370 Wabasha Street North, St. Paul, MN 55102-1390.

III. What is the agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

None of the registrations in Table 1 of Unit II. are for minor agricultural use. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: July 17, 2015.
Jennifer L. McLain,
Acting Director, Antimicrobials Division, Office of Pesticide Programs.

[FR Doc. 2015-18541 Filed 7-27-15; 8:45 am]

BILLING CODE 6560-50-P